DEPARTMENT OF JUSTICE

Antitrust Division

Notice Pursuant to the National Cooperative Research and Production Act of 1993—DVD Copy Control Association (“DVD CCA”)

Notice is hereby given that, on October 8, 2002, pursuant to Section 6(a) of the National Cooperative Research and Production Act of 1993, 15 U.S.C. 4301 et seq. (“the Act”), DVD Copy Control Association (“DDV CCA”) has filed written notifications simultaneously with the Attorney General and the Federal Trade Commission disclosing changes in its membership status. The notifications were filed for the purpose of extending the Act's provisions limiting the recovery of antitrust plaintiffs to actual damages under specified circumstances. Specifically, A&R Cambridge Limited, Cambridge, England, United Kingdom; Axiom Technologies Mfg Pte Ltd., Singapore, Singapore; BBK Electronics Corp., Ltd., Dongguan, Guangdong, People's Republic of China; Compal Electronics, Inc., Neihu, Taipei, Taiwan; Dongguan Albatronics (Far East) Electronics Co., Ltd., Dongguan, Gaungdong, People's Republic of China; Denon, Ltd., Kawasaki-ku, Kawasaki-shi, Kanagawa, Japan; Duplico 2000, S.L., Barcelona, Spain; Hyundai Digital Technology Co., Ltd., Seongnam-Si, Kyoungki-do, Republic of Korea; Kaleidoscape, Inc., Los Altos, CA; L&M Optical Disc West, LLC, Valencia, CA; Marantz Japan, Inc., Sagamihara-shi, Kanagawa, Japan, Media Factory Inc., Fremont, CA; MicroPious Co., Ltd., Pyeong Taek City, GyeongGi-Do, Republic of Korea; NewSoft Technology Corporation, NanKang, Taipei, Taiwan; Optimal Media Production GmbH, Muritz, Germany; Ritek Corporation, Hsin-Chu Industrial Park, Taiwan; Roxio, Inc., Santa Clara, CA; Shanghai HongSheng (Norcent) Technology Co., Ltd., Pudong, Shanghai, People's Republic of China; Shenzhen Landel Electronics Technology Co., Ltd., Saige Zone, Shenzhen, People's Republic of China; SM Summit Holdings Limited, Singapore, Singapore; Societe Nouvelle Arceacem (S.N.A.), Tourouvre, France; Ya Bang Industrial Co. Ltd., DongGuan City, Guangdong, People's Republic of China; and Yuxing Electronics Company Limited, Xicheng District, Beijing, People's Republic of China have been added as parties to this venture.

Also, Alcorn McBride Inc., Orlando, FL; Applied Research Corporation, Taipei Hsien, Taiwan; Concord Disc Manufacturing Corp., Anaheim, CA; Jeong Moon Information Co., Ltd., Kyeongki-Do, Republic of Korea; MARGI Systems, Inc., Fremont, CA; MGI Software Corp., Toronto, Ontario, Canada; Nakamichi Corporation, Tokyo, Japan; OPT Corporation, Naganoken, Japan; Planet Optical Disk Limited FZE, Dubai, United Arab Emirates; Shenzhen Paragon Industries (formerly Shenzhen Sangda Baodian Co., Ltd.), Shenzhen Guangdong, People's Republic of China; Shunde Xiongfeng Electric Industrial Company, Shunde City, Guangdong, People's Republic of China; and Tanway Electronic Factory, Guangzhou, People's Republic of China have been dropped as parties to this venture.

No other changes have been made in either the membership or planned activity of the group research project. Membership in this group research project remains open, and DVD Copy Control Association (“DDV CCA”) intends to file additional written notification disclosing all changes in membership.

On April 11, 2001, DVD Copy Control Association (“DDV CCA”) filed its original notification pursuant to Section 6(a) of the Act. The Department of Justice published a notice in the Federal Register pursuant to Section 6(b) of the Act on August 3, 2001 (66 FR 40727).

The last notification was filed with the Department on July 10, 2002. A notice was published in the Federal Register pursuant to Section 6(b) of the Act on September 4, 2002 (67 FR 56587).

Constance K. Robinson,
Director of Operations, Antitrust Division.

[FR Doc. 02-30792 Filed 12-4-02; 8:45 am]

BILLING CODE 4410-01-M